DEPARTMENT OF COMMERCE

Foreign-Trade Zones Board

[S-26-2021]

Foreign-Trade Zone 49—Newark, New Jersey; Application for Subzone; Celgene Corporation; Warren and Summit, New Jersey

An application has been submitted to the Foreign-Trade Zones (FTZ) Board by the Port Authority of New York and New Jersey, grantee of FTZ 49, requesting subzone status for the facilities of Celgene Corporation (Celgene), located in Warren and Summit, New Jersey. The application was submitted pursuant to the provisions of the Foreign-Trade Zones Act, as amended (19 U.S.C. 81a-81u), and the regulations of the FTZ Board (15 CFR part 400). It was formally docketed on February 10, 2021.

The proposed subzone would consist of the following sites: Site 1 (3.59 acres) 7 Powder Horn Drive, Warren; and, Site 2 (90.09 acres) 556 Morris Avenue, Summit. No authorization for production activity has been requested at this time. The proposed subzone would be subject to the existing activation limit of FTZ 49.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is March 29, 2021. Rebuttal comments in response to material submitted during the foregoing period may be submitted during the subsequent 15-day period to April 13, 2021.

A copy of the application will be available for public inspection in the “Reading Room” section of the FTZ Board's website, which is accessible via www.trade.gov/ftz.

For further information, contact Christopher Kemp at Christopher.Kemp@trade.gov.

Dated: February 11, 2021.
Andrew McGilvray,
Executive Secretary.

[FR Doc. 2021-03144 Filed 2-16-21; 8:45 am]

BILLING CODE 3510-DS-P